DEPARTMENT OF THE INTERIOR

Bureau of Indian Affairs

[145A2100DD AAK4000000 A0R9B0000.999900]

Renewal of Agency Information Collection for Tribal Probate Codes

AGENCY: Bureau of Indian Affairs, Interior.

ACTION: Notice of submission to OMB.

SUMMARY: In compliance with the Paperwork Reduction Act of 1995, the Bureau of Indian Affairs (BIA) is submitting to the Office of Management and Budget (OMB) a request for renewal for the collection of information titled “Tribal Probate Codes.” The information collection is currently authorized by OMB Control Number 1076-0168, which expires February 28, 2015.

DATES: Interested persons are invited to submit comments on or before March 5, 2015.

ADDRESSES: You may submit comments on the information collection to the Desk Officer for the Department of the Interior at the Office of Management and Budget, by facsimile to (202) 395-5806 or you may send an email to: OIRA_Submission@omb.eop.gov. Please send a copy of your comments to Charlene Toledo, Bureau of Indian Affairs, Office of Trust Services, Division of Probate Services 2600 N Central Ave STE MS 102, Phoenix, AZ 85004: Charlene.Toledo@bia.gov.

FOR FURTHER INFORMATION CONTACT: Charlene Toledo, (505) 563.3371. You may review the information collection request online at http://www.reginfo.gov. Follow the instructions to review Department of the Interior collections under review by OMB.

SUPPLEMENTARY INFORMATION:

I. Abstract

As sovereignties, federally recognized tribes have the right to establish their own probate codes. When those probate codes govern the descent and distribution of trust or restricted property, they must be approved by the Secretary of the Department of the Interior. The American Indian Probate Reform Act of 2004 (AIPRA) amendments to the Indian Land Consolidation Act, 25 U.S.C. 2201 et seq., provides that any tribal probate code, any amendment to a tribal probate code, and any free-standing single heir rule are subject to the approval of the Secretary if they contain provisions governing trust lands. This statute also establishes the basic review and approval of tribal probate codes. This information collection covers tribes' submission of tribal probate codes, amendments, and free-standing single heir rules containing provisions regarding trust lands to the Secretary for approval. There are no changes being made to this information collection.

II. Request for Comments

On October 28, 2014, the BIA published a notice announcing the renewal of this information collection and provided a 60-day comment period in the Federal Register (79 FR 64210). There were no comments received in response to this notice.

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0168.

Title: Tribal Probate Codes.

Brief Description of Collection: Submission of information is required to comply with ILCA, as amended by AIPRA, 25 U.S.C. 2201 et seq., which provides that Indian tribes must obtain Secretarial approval for all tribal probate codes, amendments, and free-standing single heir rules that govern the descent and distribution of trust or restricted lands.

Type of Review: Extension without change of currently approved collection.

Respondents: Indian tribes.

Number of Respondents: 10 per year, on average.

Frequency of Response: One per respondent, on occasion.

Estimated Time per Response: 30 minutes.

Estimated Total Annual Hour Burden: 5 hours.

Estimated Total Annual Non-Hour Dollar Cost: $0.

Dated: January 28, 2015.
Elizabeth K. Appel,
Director, Office of Regulatory Affairs and Collaborative Action—Indian Affairs.

[FR Doc. 2015-02000 Filed 2-2-15; 8:45 am]

BILLING CODE 4310-W7-P